DEPARTMENT OF COMMERCE

International Trade Administration

[A-427-818]

Low Enriched Uranium from France: Final Results of Changed Circumstances Review

AGENCY: Enforcement and Compliance, International Trade Administration, Department of Commerce.

SUMMARY: The Department of Commerce (the Department) determines that changed circumstances exist which affected the ability of Global Nuclear Fuel—Americas, LLC (GNF-A) to manage its inventory and comply with the 18-month re-export requirement provided for in the exclusion from the scope of the order. Specifically, the Department finds that certain past entries by GNF-A of low enriched uranium (LEU) from France satisfy the conditions for exclusion from the order, and that GNF-A will be allowed to make certain future entries of LEU under the provision for exclusion from the scope of the order.

DATES: Effective Date: October 29, 2014.

FOR FURTHER INFORMATION CONTACT: Andrew Huston, AD/CVD Operations, Office VII, Enforcement and Compliance, International Trade Administration, U.S. Department of Commerce, 14th Street and Constitution Avenue NW., Washington, DC 20230; telephone: (202) 482-4261.

SUPPLEMENTARY INFORMATION:

Background

On October 2, 2014, the Department published the Preliminary Results of Changed Circumstances Review of Low Enriched Uranium from France.¹ No parties commented on these preliminary results.

¹ See Low Enriched Uranium From France: Preliminary Results of Changed Circumstances Review, 79 FR 59475 (October 2, 2014).

Scope of the Order

The product covered by the order is all low-enriched uranium. Low-enriched uranium is enriched uranium hexafluoride (UF6) with a U²³⁵ product assay of less than 20 percent that has not been converted into another chemical form, such as UO2, or fabricated into nuclear fuel assemblies, regardless of the means by which the LEU is produced (including low-enriched uranium produced through the down-blending of highly enriched uranium).

Certain merchandise is outside the scope of the order. Specifically, the order does not cover enriched uranium hexafluoride with a U²³⁵ assay of 20 percent or greater, also known as highly-enriched uranium. In addition, fabricated low-enriched uranium is not covered by the scope of the order. For purposes of the order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of the order.

Also excluded from the order is low-enriched uranium owned by a foreign utility end-user and imported into the United States by or for such end-user solely for purposes of conversion by a U.S. fabricator into uranium dioxide (UO2) and/or fabrication into fuel assemblies so long as the uranium dioxide and/or fuel assemblies deemed to incorporate such imported low-enriched uranium (i) remain in the possession and control of the U.S. fabricator, the foreign end-user, or their designed transporter(s) while in U.S. customs territory, and (ii) are re-exported within eighteen (18) months of entry of the low-enriched uranium for consumption by the end-user in a nuclear reactor outside the United States. Such entries must be accompanied by the certifications of the importer and end user.

The merchandise subject to this order is classified in the Harmonized Tariff Schedule of the United States (HTSUS) at subheading 2844.20.0020. Subject merchandise may also enter under 2844.20.0030, 2844.20.0050, and 2844.40.00. Although the HTSUS subheadings are provided for convenience and customs purposes, the written description of the merchandise subject to this proceeding is dispositive.

Final Results of Changed Circumstances Review

Because there were no comments on the preliminary results, the Department adopts the reasoning and findings of fact in the preliminary results as the final results of the review. The Department's full analysis of the details of GNF-A's request for CCR and the information provided by GNF-A in its questionnaire response requires a discussion of business proprietary information, which can be found in the proprietary Memorandum to Paul Piquado, Assistant Secretary for Enforcement and Compliance, “Preliminary Results of Changed Circumstances Review: Analysis of GNF-A Business Proprietary Information.” ² The Department finds that certain past entries by GNF-A of LEU from France satisfy the conditions for exclusion from the order, and that GNF-A will be allowed to make certain future entries of LEU under the provision for exclusion from the scope of the order.

² See Memorandum to Paul Piquado, Assistant Secretary for Enforcement and Compliance, “Preliminary Results of Changed Circumstances Review: Analysis of GNF-A Business Proprietary Information,” available on Enforcement and Compliance's Antidumping and Countervailing Duty Centralized Electronic Service System (IA ACCESS) (http://iaacess.trade.gov) to parties who have been granted access to business proprietary information under Administrative Protective Order. A public version of this memorandum is also available on IA ACCESS, and it is available to all parties in the Central Records Unit of the main Commerce Building, room 7046. In addition, a complete public version of this memorandum is accessible on the internet at http://enforcement.trade.gov/frn/index.html.

Instructions to CBP

The Department will issue revised certifications and instructions to U.S. Customs and Border Protection regarding GNF-A's compliance with the 18-month re-export requirement.

Notification Regarding Administrative Protective Orders

This notice is the only reminder to parties subject to the administrative protective order (APO) of their responsibility concerning the return or destruction of proprietary information disclosed under the APO in accordance with 19 CFR 351.305(a)(3). Timely written notification of the return or destruction of APO materials or conversion to judicial protective order is hereby requested. Failure to comply with the regulations and the terms of an APO is a sanctionable violation.

Notification to Interested Parties

We are issuing and publishing these preliminary results and notice in accordance with sections 751(b)(1) and 777(i)(1) and (2) of the Act and 19 CFR 351.216.

Dated: October 22, 2014.
Paul Piquado,
Assistant Secretary for Enforcement and Compliance.

[FR Doc. 2014-25747 Filed 10-28-14; 8:45 am]

BILLING CODE 3510-DS-P